DEPARTMENT OF THE TREASURY

Office of Foreign Assets Control

Sanctions Actions Pursuant to Executive Order 13582

AGENCY: Office of Foreign Assets Control, Treasury.

ACTION: Notice.

SUMMARY: The U.S. Department of the Treasury's Office of Foreign Assets Control (OFAC) is publishing the names of 271 persons whose property and interests in property are blocked pursuant to E.O. 13582.

DATES: OFAC's actions described in this notice were effective on April 24, 2017.

FOR FURTHER INFORMATION CONTACT: OFAC: Associate Director for Global Targeting, tel.: 202-622-2420; Assistant Director for Sanctions Compliance & Evaluation, tel.: 202-622-2490; Assistant Director for Licensing, tel.: 202-622-2480; Assistant Director for Regulatory Affairs, tel. 202-622-4855; or the Department of the Treasury's Office of the General Counsel: Office of the Chief Counsel (Foreign Assets Control), tel.: 202-622-2410.

SUPPLEMENTARY INFORMATION:

Electronic Availability

The Specially Designated Nationals and Blocked Persons List and additional information concerning OFAC sanctions programs are available on OFAC's Web site (www.treasury.gov/ofac).

Notice of OFAC Actions

On April 24, 2017, OFAC designated the following 271 persons pursuant to section 1(b)(i) of E.O. 13582, “Blocking Property of the Government of Syria and Prohibiting Certain Transactions with Respect to Syria” (E.O. 13582) for having materially assisted, sponsored, or provided financial, material, or technological support for, or goods or services in support of, the Government of Syria, a person whose property and interests in property are blocked pursuant to E.O. 13582. OFAC also designated the following 271 persons pursuant to section 1(b)(ii) of E.O. 13582 for having acted or purported to act for or on behalf of, directly or indirectly, Government of Syria, a person whose property and interests in property are blocked pursuant to E.O. 13582:

Individuals

1. AL-BAKKUR, 'Abd-al-'Azim, Syria; DOB 14 Nov 1958; nationality Syria; Scientific Studies and Research Center Employee (individual) [SYRIA].

2. 'ABD-AL-QADIR, Abd-al-'Aziz, Syria; DOB 01 Feb 1965; nationality Syria; Scientific Studies and Research Center Employee (individual) [SYRIA].

3. SHURUF, 'Abd-al-Hakim, Syria; DOB 25 Apr 1967; nationality Syria; Scientific Studies and Research Center Employee (individual) [SYRIA].

4. 'ABDU, Abdallah, Syria; DOB 05 Dec 1957; nationality Syria; Scientific Studies and Research Center Employee (individual) [SYRIA].

5. JUNDIYAH, Abdallah, Syria; DOB 01 Nov 1968; nationality Syria; Scientific Studies and Research Center Employee (individual) [SYRIA].

6. HAFIZ, Abdallah, Syria; DOB 27 Jun 1962; nationality Syria; Scientific Studies and Research Center Employee (individual) [SYRIA].

7. AL-HASAN, Abdallah, Syria; DOB 15 Jun 1983; nationality Syria; Scientific Studies and Research Center Employee (individual) [SYRIA].

8. KITU', 'Abd-al-Latif, Syria; DOB 28 Jan 1984; nationality Syria; Scientific Studies and Research Center Employee (individual) [SYRIA].

9. ZAMR, 'Abd-al-Nasir Ibbi, Syria; DOB 01 Jul 1985; nationality Syria; Scientific Studies and Research Center Employee (individual) [SYRIA].

10. BASAL, Abd-al-Rahman, Syria; DOB 03 Mar 1958; nationality Syria; Scientific Studies and Research Center Employee (individual) [SYRIA].

11. AL-RASLAN, Abd-al-Salam, Syria; DOB 17 Nov 1968; nationality Syria; Scientific Studies and Research Center Employee (individual) [SYRIA].

12. MA'RUF, Abd-al-Salam, Syria; DOB 04 Apr 1968; nationality Syria; Scientific Studies and Research Center Employee (individual) [SYRIA].

13. SHURAYQI, 'Abd-al-Salam, Syria; DOB 14 Apr 1966; nationality Syria; Scientific Studies and Research Center Employee (individual) [SYRIA].

14. AL-MATAR, 'Abdu Tahir, Syria; DOB 17 Oct 1965; nationality Syria; Scientific Studies and Research Center Employee (individual) [SYRIA].

15. KHAYMI, Abir 'Abd-al-Karim, Syria; DOB 01 Dec 1971; nationality Syria; Scientific Studies and Research Center Employee (individual) [SYRIA].

16. AL-JUBBAH, Adnan, Syria; DOB 11 Apr 1953; nationality Syria; Scientific Studies and Research Center Employee (individual) [SYRIA].

17. AL-MASRI, Ahd, Syria; DOB 01 May 1967; nationality Syria; Scientific Studies and Research Center Employee (individual) [SYRIA].

18. BITAR, Ahd, Syria; DOB 23 Jun 1961; nationality Syria; Scientific Studies and Research Center Employee (individual) [SYRIA].

19. JADDU', Ahd, Syria; DOB 22 Apr 1986; nationality Syria; Scientific Studies and Research Center Employee (individual) [SYRIA].

20. HAMDAN, Ahmad, Syria; DOB 15 Mar 1965; nationality Syria; Scientific Studies and Research Center Employee (individual) [SYRIA].

21. 'ALI, Ahmad, Syria; DOB 02 Dec 1969; nationality Syria; Scientific Studies and Research Center Employee (individual) [SYRIA].

22. ZARIFAH, Ahmad, Syria; DOB 09 Nov 1960; nationality Syria; Scientific Studies and Research Center Employee (individual) [SYRIA].

23. DAHIR, Ahmad, Syria; DOB 20 Jun 1972; nationality Syria; Scientific Studies and Research Center Employee (individual) [SYRIA].

24. DAWARAH, Ahmad, Syria; DOB 21 Feb 1959; nationality Syria; Scientific Studies and Research Center Employee (individual) [SYRIA].

25. SABUNI, Ahmad, Syria; DOB 23 Dec 1960; nationality Syria; Scientific Studies and Research Center Employee (individual) [SYRIA].

26. SALIM, Ahmad, Syria; DOB 29 Aug 1967; nationality Syria; Scientific Studies and Research Center Employee (individual) [SYRIA].

27. ASWAD, Ahmad, Syria; DOB 21 Aug 1966; nationality Syria; Scientific Studies and Research Center Employee (individual) [SYRIA].

28. NAJIB, Ahmad, Syria; DOB 04 Oct 1968; nationality Syria; Scientific Studies and Research Center Employee (individual) [SYRIA].

29. HAMAWI, Ahmad, Syria; DOB 15 Jul 1971; nationality Syria; Scientific Studies and Research Center Employee (individual) [SYRIA].

30. 'ABD-AL-WAHHAB, Ahmad, Syria; DOB 01 Jan 1982; nationality Syria; Scientific Studies and Research Center Employee (individual) [SYRIA].

31. KHALALU, Ahmad, Syria; DOB 01 Jan 1978; nationality Syria; Scientific Studies and Research Center Employee (individual) [SYRIA].

32. AL-'ABD, Ahmad, Syria; DOB 28 Jan 1982; nationality Syria; Scientific Studies and Research Center Employee (individual) [SYRIA].

33. 'ABUD, Ahmad, Syria; DOB 28 May 1984; nationality Syria; Scientific Studies and Research Center Employee (individual) [SYRIA].

34. AL-SILMU, Ahmad al-Hasan, Syria; DOB 28 Jun 1982; nationality Syria; Scientific Studies and Research Center Employee (individual) [SYRIA].

35. BASHA, Ahmad Nadir Ibrahim, Syria; DOB 15 Apr 1986; nationality Syria; Scientific Studies and Research Center Employee (individual) [SYRIA].

36. SULAYMAN, Akram, Syria; DOB 14 Apr 1967; nationality Syria; Scientific Studies and Research Center Employee (individual) [SYRIA].

37. AL-QUTMAH, Akram, Syria; DOB 04 Dec 1961; nationality Syria; Scientific Studies and Research Center Employee (individual) [SYRIA].

38. JUKHDAR, 'Ala'-al-Din, Syria; DOB 03 Mar 1985; nationality Syria; Scientific Studies and Research Center Employee (individual) [SYRIA].

39. DARWISH, Ali, Syria; DOB 02 Mar 1966; nationality Syria; Scientific Studies and Research Center Employee (individual) [SYRIA].

40. ASWAD, Ali, Syria; DOB 10 Nov 1958; nationality Syria; Scientific Studies and Research Center Employee (individual) [SYRIA].

41. IBRAHIM, Ali, Syria; DOB 28 Feb 1985; nationality Syria; Scientific Studies and Research Center Employee (individual) [SYRIA].

42. JUMUL, Ali, Syria; DOB 07 Feb 1981; nationality Syria; Scientific Studies and Research Center Employee (individual) [SYRIA].

43. HUSAYN, 'Ali, Syria; DOB 20 Mar 1959; nationality Syria; Scientific Studies and Research Center Employee (individual) [SYRIA].

44. IBRAHIM, 'Ali, Syria; DOB 25 Mar 1961; nationality Syria; Scientific Studies and Research Center Employee (individual) [SYRIA].

45. MUHAMMAD, 'Ali Hajj, Syria; DOB 05 Mar 1971; nationality Syria; Scientific Studies and Research Center Employee (individual) [SYRIA].

46. HUDBAH, Amin, Syria; DOB 09 Nov 1959; nationality Syria; Scientific Studies and Research Center Employee (individual) [SYRIA].

47. MAJRUD, Amin, Syria; DOB 03 Jul 1965; nationality Syria; Scientific Studies and Research Center Employee (individual) [SYRIA].

48. AL-MUKAHHAL, Aminah, Syria; DOB 01 Jan 1988; nationality Syria; Scientific Studies and Research Center Employee (individual) [SYRIA].

49. MUSHRIF, Amir, Syria; DOB 10 Jun 1960; nationality Syria; Scientific Studies and Research Center Employee (individual) [SYRIA].

50. HASAN, Ammar, Syria; DOB 01 Jul 1975; nationality Syria; Scientific Studies and Research Center Employee (individual) [SYRIA].

51. DAYRI, Ammar, Syria; DOB 06 Mar 1967; nationality Syria; Scientific Studies and Research Center Employee (individual) [SYRIA].

52. AL-ISMA'IL, Ammar Fu'ad, Syria; DOB 25 Sep 1985; nationality Syria; Scientific Studies and Research Center Employee (individual) [SYRIA].

53. AL-WADI, Anas, Syria; DOB 21 May 1987; nationality Syria; Scientific Studies and Research Center Employee (individual) [SYRIA].

54. MIRKAN, Anas 'Adil, Syria; DOB 01 Jul 1983; nationality Syria; Scientific Studies and Research Center Employee (individual) [SYRIA].

55. HASAN, As'ad, Syria; DOB 24 Dec 1958; nationality Syria; Scientific Studies and Research Center Employee (individual) [SYRIA].

56. HALLAQ, As'ad 'Adnan, Syria; DOB 08 Jan 1967; nationality Syria; Scientific Studies and Research Center Employee (individual) [SYRIA].

57. ISMA'IL, Ayham, Syria; DOB 20 Jan 1972; nationality Syria; Scientific Studies and Research Center Employee (individual) [SYRIA].

58. MUSTAFA, Ayham Hajj, Syria; DOB 16 Aug 1984; nationality Syria; Scientific Studies and Research Center Employee (individual) [SYRIA].

59. AL-DALATI, Ayman, Syria; DOB 20 Aug 1969; nationality Syria; Scientific Studies and Research Center Employee (individual) [SYRIA].

60. AHMAD, Ayman, Syria; DOB 01 Feb 1971; nationality Syria; Scientific Studies and Research Center Employee (individual) [SYRIA].

61. RASHID, Badr, Syria; DOB 01 Jan 1987; nationality Syria; Scientific Studies and Research Center Employee (individual) [SYRIA].

62. AL-LAYIQ, Baha', Syria; DOB 31 Aug 1985; nationality Syria; Scientific Studies and Research Center Employee (individual) [SYRIA].

63. SA'ADAT, Bashar, Syria; DOB 16 Jul 1982; nationality Syria; Scientific Studies and Research Center Employee (individual) [SYRIA].

64. AL-HALABI, Basil, Syria; DOB 01 Feb 1967; nationality Syria; Scientific Studies and Research Center Employee (individual) [SYRIA].

65. SHA'BAN, Basil, Syria; DOB 25 Jan 1981; nationality Syria; Scientific Studies and Research Center Employee (individual) [SYRIA].

66. WARDAH, Bassam, Syria; DOB 20 Jan 1967; nationality Syria; Scientific Studies and Research Center Employee (individual) [SYRIA].

67. HASAN, Bilal, Syria; DOB 01 Jan 1978; nationality Syria; Scientific Studies and Research Center Employee (individual) [SYRIA].

68. SULAYMAN, Dayma, Syria; DOB 29 Sep 1983; nationality Syria; Scientific Studies and Research Center Employee (individual) [SYRIA].

69. WAFA'I, Diya', Syria; DOB 07 Jan 1984; nationality Syria; Scientific Studies and Research Center Employee (individual) [SYRIA].

70. AL-SHAYKH, Diyab, Syria; DOB 11 Dec 1953; nationality Syria; Scientific Studies and Research Center Employee (individual) [SYRIA].

71. AL-RAHYAH, Fadi, Syria; DOB 27 Dec 1971; nationality Syria; Scientific Studies and Research Center Employee (individual) [SYRIA].

72. ZA'RURAH, Fadiyah, Syria; DOB 26 Jan 1958; nationality Syria; Scientific Studies and Research Center Employee (individual) [SYRIA].

73. MAHFUD, Farhan, Syria; DOB 11 Sep 1966; nationality Syria; Scientific Studies and Research Center Employee (individual) [SYRIA].

74. FADUL, Farhub, Syria; DOB 15 Jul 1951; nationality Syria; Scientific Studies and Research Center Employee (individual) [SYRIA].

75. MUSTAFA, Fayiz, Syria; DOB 01 Jan 1952; nationality Syria; Scientific Studies and Research Center Employee (individual) [SYRIA].

76. BUZ-AL-JUDDI, Fayiz, Syria; DOB 22 Feb 1964; nationality Syria; Scientific Studies and Research Center Employee (individual) [SYRIA].

77. BU'AYTI, Faysal, Syria; DOB 01 Jan 1966; nationality Syria; Scientific Studies and Research Center Employee (individual) [SYRIA].

78. MUHAMMAD, Faysal, Syria; DOB 20 Feb 1966; nationality Syria; Scientific Studies and Research Center Employee (individual) [SYRIA].

79. KHALUF, Faysal, Syria; DOB 21 May 1963; nationality Syria; Scientific Studies and Research Center Employee (individual) [SYRIA].

80. MUSA, Firas, Syria; DOB 13 Jul 1983; nationality Syria; Scientific Studies and Research Center Employee (individual) [SYRIA].

81. SALIM, Firas Hajj, Syria; DOB 10 May 1977; nationality Syria; Scientific Studies and Research Center Employee (individual) [SYRIA].

82. QATISH, Firiyal, Syria; DOB 26 Jan 1959; nationality Syria; Scientific Studies and Research Center Employee (individual) [SYRIA].

83. 'AZIZI, Fu'ad, Syria; DOB 28 Mar 1968; nationality Syria; Scientific Studies and Research Center Employee (individual) [SYRIA].

84. IBRAHIM, Fu'ad 'Abd-al-Qadir, Syria; DOB 24 Nov 1967; nationality Syria; Scientific Studies and Research Center Employee (individual) [SYRIA].

85. SAFTALI, Ghassan, Syria; DOB 20 Feb 1964; nationality Syria; Scientific Studies and Research Center Employee (individual) [SYRIA].

86. AL-SHAWWA, Ghayth, Syria; DOB 13 Apr 1956; nationality Syria; Scientific Studies and Research Center Employee (individual) [SYRIA].

87. AL-FAWAKHIRI, Ghusn al-Zuhur, Syria; DOB 01 Jan 1986; nationality Syria; Scientific Studies and Research Center Employee (individual) [SYRIA].

88. SHUAYHANAH, Hadil, Syria; DOB 20 May 1983; nationality Syria; Scientific Studies and Research Center Employee (individual) [SYRIA].

89. SIRHAN, Hala, Syria; DOB 05 Jan 1953; nationality Syria; Scientific Studies and Research Center Employee (individual) [SYRIA].

90. FARAJ, Hala, Syria; DOB 22 Mar 1987; nationality Syria; Scientific Studies and Research Center Employee (individual) [SYRIA].

91. JUM'AH, Hamid, Syria; DOB 01 Mar 1963; nationality Syria; Scientific Studies and Research Center Employee (individual) [SYRIA].

92. AL-'AZBAH, Hana, Syria; DOB 15 Feb 1972; nationality Syria; Scientific Studies and Research Center Employee (individual) [SYRIA].

93. HUSAYN, Hanan, Syria; DOB 20 Apr 1975; nationality Syria; Scientific Studies and Research Center Employee (individual) [SYRIA].

94. JAHHAR, Hannan, Syria; DOB 02 Jan 1971; nationality Syria; Scientific Studies and Research Center Employee (individual) [SYRIA].

95. AHMAD, Hasan, Syria; DOB 13 May 1966; nationality Syria; Scientific Studies and Research Center Employee (individual) [SYRIA].

96. KHADDUR, Hasan, Syria; DOB 26 Aug 1981; nationality Syria; Scientific Studies and Research Center Employee (individual) [SYRIA].

97. ZAYD, Hasan Muhammad, Syria; DOB 15 Feb 1985; nationality Syria; Scientific Studies and Research Center Employee (individual) [SYRIA].

98. AL-RAYS, Hassan, Syria; DOB 03 Nov 1963; nationality Syria; Scientific Studies and Research Center Employee (individual) [SYRIA].

99. ASMAR, Haytham, Syria; DOB 02 Nov 1969; nationality Syria; Scientific Studies and Research Center Employee (individual) [SYRIA].

100. SHUNATI, Haytham, Syria; DOB 04 Jun 1965; nationality Syria; Scientific Studies and Research Center Employee (individual) [SYRIA].

101. AL-HURANI, Haytham Ahmad, Syria; DOB 05 Jan 1964; nationality Syria; Scientific Studies and Research Center Employee (individual) [SYRIA].

102. 'ABDU, Hikmat, Syria; DOB 12 Mar 1961; nationality Syria; Scientific Studies and Research Center Employee (individual) [SYRIA].

103. 'ABBUD, Hikmat, Syria; DOB 01 Jan 1966; nationality Syria; Scientific Studies and Research Center Employee (individual) [SYRIA].

104. JIRJIS, Hiyam, Syria; DOB 07 Oct 1964; nationality Syria; Scientific Studies and Research Center Employee (individual) [SYRIA].

105. HAMSHU, Hudu' Nayif, Syria; DOB 08 Jan 1957; nationality Syria; Scientific Studies and Research Center Employee (individual) [SYRIA].

106. AL-FAKHURI, Husam 'Adbd-al-Barr, Syria; DOB 10 Feb 1973; nationality Syria; Scientific Studies and Research Center Employee (individual) [SYRIA].

107. TAHA, Husam a-Sahykh, Syria; DOB 14 Jan 1981; nationality Syria; Scientific Studies and Research Center Employee (individual) [SYRIA].

108. JALAL, Husam-al-Din, Syria; DOB 01 Aug 1983; nationality Syria; Scientific Studies and Research Center Employee (individual) [SYRIA].

109. KALALAH, Husam-al-Din Walid, Syria; DOB 04 Jan 1983; nationality Syria; Scientific Studies and Research Center Employee (individual) [SYRIA].

110. JAWISH, Husayn Rida, Syria; DOB 07 Apr 1963; nationality Syria; Scientific Studies and Research Center Employee (individual) [SYRIA].

111. AL-BAYKU, Husayn-Ahmad, Syria; DOB 10 May 1980; nationality Syria; Scientific Studies and Research Center Employee (individual) [SYRIA].

112. IDRIS, Ibrahim, Syria; DOB 05 Apr 1963; nationality Syria; Scientific Studies and Research Center Employee (individual) [SYRIA].

113. AL-KHUWAYLID, Ibrahim, Syria; DOB 25 Apr 1966; nationality Syria; Scientific Studies and Research Center Employee (individual) [SYRIA].

114. MUSTAFA, Ibrahim, Syria; DOB 06 Jan 1984; nationality Syria; Scientific Studies and Research Center Employee (individual) [SYRIA].

115. JAZBAH, Ibrahim Sa'd Zayn-al-'Abidin, Syria; DOB 02 Apr 1957; nationality Syria; Scientific Studies and Research Center Employee (individual) [SYRIA].

116. NUR-AL-DIN, Imad, Syria; DOB 29 Jul 1955; nationality Syria; Scientific Studies and Research Center Employee (individual) [SYRIA].

117. BASHA, Imad Isma'il, Syria; DOB 12 May 1959; nationality Syria; Scientific Studies and Research Center Employee (individual) [SYRIA].

118. AL-TAWWAKHI, Iman, Syria; DOB 04 Mar 1956; nationality Syria; Scientific Studies and Research Center Employee (individual) [SYRIA].

119. NASR, Isa, Syria; DOB 20 Apr 1980; nationality Syria; Scientific Studies and Research Center Employee (individual) [SYRIA].

120. KHIDR, Isa, Syria; DOB 27 Jan 1969; nationality Syria; Scientific Studies and Research Center Employee (individual) [SYRIA].

121. 'ALI, Isma'il, Syria; DOB 20 Jun 1970; nationality Syria; Scientific Studies and Research Center Employee (individual) [SYRIA].

122. AL-SHURAYQI, Isma'il, Syria; DOB 14 Jul 1956; nationality Syria; Scientific Studies and Research Center Employee (individual) [SYRIA].

123. SALIM, Iyad, Syria; DOB 12 Dec 1970; nationality Syria; Scientific Studies and Research Center Employee (individual) [SYRIA].

124. JIJAH, Jalal-al-Din 'Adil, Syria; DOB 20 Jan 1983; nationality Syria; Scientific Studies and Research Center Employee (individual) [SYRIA].

125. AL-AQRA', Jamal 'Ali, Syria; DOB 17 Apr 1963; nationality Syria; Scientific Studies and Research Center Employee (individual) [SYRIA].

126. SHAHT, Jamal Zaydan, Syria; DOB 06 Feb 1960; nationality Syria; Scientific Studies and Research Center Employee (individual) [SYRIA].

127. TAHA, Jamilah, Syria; DOB 09 Oct 1985; nationality Syria; Scientific Studies and Research Center Employee (individual) [SYRIA].

128. NA'SANI, Jawdat, Syria; DOB 08 Jun 1985; nationality Syria; Scientific Studies and Research Center Employee (individual) [SYRIA].

129. QURJU, Jihad-al-Din, Syria; DOB 22 Aug 1965; nationality Syria; Scientific Studies and Research Center Employee (individual) [SYRIA].

130. AL-SASI, Jumanah, Syria; DOB 05 Oct 1960; nationality Syria; Scientific Studies and Research Center Employee (individual) [SYRIA].

131. AL-MAHMUD, Khalid, Syria; DOB 20 Sep 1984; nationality Syria; Scientific Studies and Research Center Employee (individual) [SYRIA].

132. AL-BAKUR, Khalid, Syria; DOB 25 Jan 1982; nationality Syria; Scientific Studies and Research Center Employee (individual) [SYRIA].

133. AL-'AYSH, Khalid al-Hajj Muhammad, Syria; DOB 05 Jun 1980; nationality Syria; Scientific Studies and Research Center Employee (individual) [SYRIA].

134. QANBAR, Khalid Zaki, Syria; DOB 20 Apr 1960; nationality Syria; Scientific Studies and Research Center Employee (individual) [SYRIA].

135. MANSUR, Khalil, Syria; DOB 11 Mar 1959; nationality Syria; Scientific Studies and Research Center Employee (individual) [SYRIA].

136. DA'UD, Lu'ay, Syria; DOB 13 Oct 1962; nationality Syria; Scientific Studies and Research Center Employee (individual) [SYRIA].

137. FU'ANI, Lu'ay, Syria; DOB 02 Apr 1972; nationality Syria; Scientific Studies and Research Center Employee (individual) [SYRIA].

138. AL-HARZRURI, Mahmubd, Syria; DOB 19 Nov 1957; nationality Syria; Scientific Studies and Research Center Employee (individual) [SYRIA].

139. ZANBU'AH, Mahmud, Syria; DOB 30 Jul 1974; nationality Syria; Scientific Studies and Research Center Employee (individual) [SYRIA].

140. RAHHAL, Mahmud, Syria; DOB 25 Jun 1965; nationality Syria; Scientific Studies and Research Center Employee (individual) [SYRIA].

141. SA'ID, Majd, Syria; DOB 25 Nov 1982; nationality Syria; Scientific Studies and Research Center Employee (individual) [SYRIA].

142. KARIM, Malik 'Adil, Syria; DOB 16 May 1984; nationality Syria; Scientific Studies and Research Center Employee (individual) [SYRIA].

143. GHANIM, Ma'n, Syria; DOB 03 May 1970; nationality Syria; Scientific Studies and Research Center Employee (individual) [SYRIA].

144. AL-HUSAYN, Mashhur, Syria; DOB 01 Jan 1961; nationality Syria; Scientific Studies and Research Center Employee (individual) [SYRIA].

145. DIB, Mashhur, Syria; DOB 20 May 1970; nationality Syria; Scientific Studies and Research Center Employee (individual) [SYRIA].

146. QATTAN, Maysa', Syria; DOB 25 Feb 1962; nationality Syria; Scientific Studies and Research Center Employee (individual) [SYRIA].

147. 'ALYA, Mazin, Syria; DOB 28 Feb 1977; nationality Syria; Scientific Studies and Research Center Employee (individual) [SYRIA].

148. MAWAS, Milad, Syria; DOB 25 Dec 1985; nationality Syria; Scientific Studies and Research Center Employee (individual) [SYRIA].

149. MIRDASH, Misbah, Syria; DOB 02 Jan 1970; nationality Syria; Scientific Studies and Research Center Employee (individual) [SYRIA].

150. AL-IBRAHIM, Muhammad, Syria; DOB 08 Mar 1969; nationality Syria; Scientific Studies and Research Center Employee (individual) [SYRIA].

151. SALLUM, Muhammad, Syria; DOB 31 Oct 1973; nationality Syria; Scientific Studies and Research Center Employee (individual) [SYRIA].

152. HUSAYN, Muhammad, Syria; DOB 25 Feb 1965; nationality Syria; Scientific Studies and Research Center Employee (individual) [SYRIA].

153. BIZRAH, Muhammad, Syria; DOB 12 Mar 1968; nationality Syria; Scientific Studies and Research Center Employee (individual) [SYRIA].

154. HAWWAT, Muhammad, Syria; DOB 10 Mar 1966; nationality Syria; Scientific Studies and Research Center Employee (individual) [SYRIA].

155. SALMAN, Muhammad, Syria; DOB 03 Mar 1982; nationality Syria; Scientific Studies and Research Center Employee (individual) [SYRIA].

156. AL-RAHHAL, Muhammad, Syria; DOB 01 Mar 1960; nationality Syria; Scientific Studies and Research Center Employee (individual) [SYRIA].

157. AL-SHAYKH, Muhammad, Syria; DOB 08 Mar 1971; nationality Syria; Scientific Studies and Research Center Employee (individual) [SYRIA].

158. 'ABDALLAH, Muhammad, Syria; DOB 05 Apr 1972; nationality Syria; Scientific Studies and Research Center Employee (individual) [SYRIA].

159. HAMANDUSH, Muhammad, Syria; DOB 09 Jan 1964; nationality Syria; Scientific Studies and Research Center Employee (individual) [SYRIA].

160. SA'DU, Muhammad, Syria; DOB 20 Apr 1966; nationality Syria; Scientific Studies and Research Center Employee (individual) [SYRIA].

161. AL-MUHAMMAD, Muhammad, Syria; DOB 02 Feb 1964; nationality Syria; Scientific Studies and Research Center Employee (individual) [SYRIA].

162. 'ARAFAT, Muhammad, Syria; DOB 28 Jul 1964; nationality Syria; Scientific Studies and Research Center Employee (individual) [SYRIA].

163. 'ALI, Muhammad, Syria; DOB 01 Aug 1979; nationality Syria; Scientific Studies and Research Center Employee (individual) [SYRIA].

164. HAITANI, Muhammad, Syria; DOB 03 Sep 1983; nationality Syria; Scientific Studies and Research Center Employee (individual) [SYRIA].

165. HARIRI, Muhammad, Syria; DOB 27 Aug 1984; nationality Syria; Scientific Studies and Research Center Employee (individual) [SYRIA].

166. 'ALI, Muhammad, Syria; DOB 30 Aug 1985; nationality Syria; Scientific Studies and Research Center Employee (individual) [SYRIA].

167. AL-BURSHAH, Muhammad Akram, Syria; DOB 30 Aug 1956; nationality Syria; Scientific Studies and Research Center Employee (individual) [SYRIA].

168. KHASHAFI, Muhammad al-Khalid, Syria; DOB 21 May 1965; nationality Syria; Scientific Studies and Research Center Employee (individual) [SYRIA].

169. NAJJAR, Muhammad Amin, Syria; DOB 08 Nov 1982; nationality Syria; Scientific Studies and Research Center Employee (individual) [SYRIA].

170. AL-KHUDAYR, Muhammad 'Arif al-Hasan, Syria; DOB 05 Sep 1985; nationality Syria; Scientific Studies and Research Center Employee (individual) [SYRIA].

171. SALIM, Muhammad Ayman Nasir-al-Din, Syria; DOB 23 Jun 1968; nationality Syria; Scientific Studies and Research Center Employee (individual) [SYRIA].

172. SHI'AR, Muhammad 'Azzam, Syria; DOB 02 Sep 1967; nationality Syria; Scientific Studies and Research Center Employee (individual) [SYRIA].

173. HAJJI, Muhammad Fawzi, Syria; DOB 25 Jun 1962; nationality Syria; Scientific Studies and Research Center Employee (individual) [SYRIA].

174. TALLUJ, Muhammad Ghassan, Syria; DOB 15 Jan 1960; nationality Syria; Scientific Studies and Research Center Employee (individual) [SYRIA].

175. 'ABD-AL-SAMAD, Muhammad Haytham, Syria; DOB 05 Sep 1947; nationality Syria; Scientific Studies and Research Center Employee (individual) [SYRIA].

176. YUSUF, Muhammad Hisham Fu'ad, Syria; DOB 29 Jul 1965; nationality Syria; Scientific Studies and Research Center Employee (individual) [SYRIA].

177. AL-NA'IMI, Muhammad Iyad, Syria; DOB 29 Oct 1955; nationality Syria; Scientific Studies and Research Center Employee (individual) [SYRIA].

178. HILALI, Muhammad Jalal, Syria; DOB 10 Nov 1960; nationality Syria; Scientific Studies and Research Center Employee (individual) [SYRIA].

179. SUKHAYTAH, Muhammad Khayr, Syria; DOB 18 May 1965; nationality Syria; Scientific Studies and Research Center Employee (individual) [SYRIA].

180. QURJU, Muhammad Mu'ammar, Syria; DOB 02 Aug 1971; nationality Syria; Scientific Studies and Research Center Employee (individual) [SYRIA].

181. ZIHAR, Muhammad Nadim Subhi, Syria; DOB 29 Mar 1955; nationality Syria; Scientific Studies and Research Center Employee (individual) [SYRIA].

182. SABBAGH, Muhammad Nasir, Syria; DOB 26 Nov 1954; nationality Syria; Scientific Studies and Research Center Employee (individual) [SYRIA].

183. MUHAYIRI, Muhammad Nasir, Syria; DOB 29 Nov 1964; nationality Syria; Scientific Studies and Research Center Employee (individual) [SYRIA].

184. DABBAGH, Muhammad Nazmi 'Ulwani, Syria; DOB 01 Jan 1959; nationality Syria; Scientific Studies and Research Center Employee (individual) [SYRIA].

185. QUDAYMATI, Muhammad Ridwan, Syria; DOB 12 Jan 1967; nationality Syria; Scientific Studies and Research Center Employee (individual) [SYRIA].

186. HIMSI, Muhammad Riyad, Syria; DOB 08 Nov 1957; nationality Syria; Scientific Studies and Research Center Employee (individual) [SYRIA].

187. AL-HAKIM, Muhammad Sa'id, Syria; DOB 01 Apr 1961; nationality Syria; Scientific Studies and Research Center Employee (individual) [SYRIA].

188. AL-FAQIR, Muhammad Samir, Syria; DOB 21 Jan 1952; nationality Syria; Scientific Studies and Research Center Employee (individual) [SYRIA].

189. NASR, Muhammad Sayyah, Syria; DOB 23 Aug 1955; nationality Syria; Scientific Studies and Research Center Employee (individual) [SYRIA].

190. TURAYSI, Muhammad Wa'il, Syria; DOB 14 Feb 1973; nationality Syria; Scientific Studies and Research Center Employee (individual) [SYRIA].

191. AL-MUDALLAL, Muhammad Zuhayr, Syria; DOB 24 May 1953; nationality Syria; Scientific Studies and Research Center Employee (individual) [SYRIA].

192. YUSUF, Muhsin, Syria; DOB 17 May 1967; nationality Syria; Scientific Studies and Research Center Employee (individual) [SYRIA].

193. AL-FIRAS, Muhsin, Syria; DOB 20 Jan 1979; nationality Syria; Scientific Studies and Research Center Employee (individual) [SYRIA].

194. KHABIYYAH, Muna, Syria; DOB 01 Apr 1966; nationality Syria; Scientific Studies and Research Center Employee (individual) [SYRIA].

195. AS'AD, Murad, Syria; DOB 28 Jan 1985; nationality Syria; Scientific Studies and Research Center Employee (individual) [SYRIA].

196. AL-HARIRI, Musa, Syria; DOB 19 Jun 1970; nationality Syria; Scientific Studies and Research Center Employee (individual) [SYRIA].

197. AL-'UBAYSI, Mus'id, Syria; DOB 01 Jul 1965; nationality Syria; Scientific Studies and Research Center Employee (individual) [SYRIA].

198. ZAYDAN, Mustafa, Syria; DOB 09 Jan 1986; nationality Syria; Scientific Studies and Research Center Employee (individual) [SYRIA].

199. RABI', Mustafa Dib, Syria; DOB 10 Nov 1963; nationality Syria; Scientific Studies and Research Center Employee (individual) [SYRIA].

200. AL-DAGHISTANI, Muzayyin, Syria; DOB 03 Apr 1959; nationality Syria; Scientific Studies and Research Center Employee (individual) [SYRIA].

201. SHARBA, Muzhir, Syria; DOB 23 Feb 1970; nationality Syria; Scientific Studies and Research Center Employee (individual) [SYRIA].

202. AL-DAWUD, Nariman, Syria; DOB 16 Feb 1973; nationality Syria; Scientific Studies and Research Center Employee (individual) [SYRIA].

203. 'AWDAH, Nasim, Syria; DOB 19 Feb 1980; nationality Syria; Scientific Studies and Research Center Employee (individual) [SYRIA].

204. MUTAWIJ, Nawar, Syria; DOB 23 Sep 1985; nationality Syria; Scientific Studies and Research Center Employee (individual) [SYRIA].

205. AL-ID, Nawras, Syria; DOB 13 Aug 1967; nationality Syria; Scientific Studies and Research Center Employee (individual) [SYRIA].

206. AL-SA'ID, Nidal, Syria; DOB 18 Apr 1976; nationality Syria; Scientific Studies and Research Center Employee (individual) [SYRIA].

207. 'ID, Nisrin Bubhi, Syria; DOB 26 May 1984; nationality Syria; Scientific Studies and Research Center Employee (individual) [SYRIA].

208. BAWADUQJI, Nur-al-Din, Syria; DOB 07 Jan 1983; nationality Syria; Scientific Studies and Research Center Employee (individual) [SYRIA].

209. AL-NAJJAR, Qasim, Syria; DOB 01 Feb 1958; nationality Syria; Scientific Studies and Research Center Employee (individual) [SYRIA].

210. TABAQ, Qasim, Syria; DOB 01 May 1965; nationality Syria; Scientific Studies and Research Center Employee (individual) [SYRIA].

211. AL-MASRI, Rahf, Syria; DOB 05 Oct 1984; nationality Syria; Scientific Studies and Research Center Employee (individual) [SYRIA].

212. DAYYUB, Rajab, Syria; DOB 01 Jan 1963; nationality Syria; Scientific Studies and Research Center Employee (individual) [SYRIA].

213. BUNDUQJI, Rana, Syria; DOB 09 Jan 1984; nationality Syria; Scientific Studies and Research Center Employee (individual) [SYRIA].

214. SAQR, Rana, Syria; DOB 01 Oct 1979; nationality Syria; Scientific Studies and Research Center Employee (individual) [SYRIA].

215. 'ULAYSHAH, Rana, Syria; DOB 25 Oct 1981; nationality Syria; Scientific Studies and Research Center Employee (individual) [SYRIA].

216. AYYUBI, Rashid, Syria; DOB 25 Jul 1954; nationality Syria; Scientific Studies and Research Center Employee (individual) [SYRIA].

217. NI'MA, Rashid Rashid, Syria; DOB 01 Dec 1982; nationality Syria; Scientific Studies and Research Center Employee (individual) [SYRIA].

218. AL-KHATIB, Ridwan, Syria; DOB 03 Sep 1975; nationality Syria; Scientific Studies and Research Center Employee (individual) [SYRIA].

219. AL-JIBAWI, Ridwan 'Ali, Syria; DOB 25 Mar 1959; nationality Syria; Scientific Studies and Research Center Employee (individual) [SYRIA].

220. 'ALLUSH, Ridwan Hasan, Syria; DOB 20 May 1970; nationality Syria; Scientific Studies and Research Center Employee (individual) [SYRIA].

221. 'ABBAS, Rim, Syria; DOB 25 Mar 1973; nationality Syria; Scientific Studies and Research Center Employee (individual) [SYRIA].

222. AL-TAQI, Rim Nadir, Syria; DOB 15 Sep 1975; nationality Syria; Scientific Studies and Research Center Employee (individual) [SYRIA].

223. AL-AHMAD, Riyad, Syria; DOB 15 Mar 1977; nationality Syria; Scientific Studies and Research Center Employee (individual) [SYRIA].

224. DUWAYR, Ruba, Syria; DOB 19 Apr 1985; nationality Syria; Scientific Studies and Research Center Employee (individual) [SYRIA].

225. KIWAN, Rula, Syria; DOB 10 May 1974; nationality Syria; Scientific Studies and Research Center Employee (individual) [SYRIA].

226. SA'ADAH, Ruwaydah, Syria; DOB 10 Feb 1952; nationality Syria; Scientific Studies and Research Center Employee (individual) [SYRIA].

227. NASIF, Saba, Syria; DOB 12 Sep 1986; nationality Syria; Scientific Studies and Research Center Employee (individual) [SYRIA].

228. AL-TABBAL, Saba, Syria; DOB 08 Apr 1972; nationality Syria; Scientific Studies and Research Center Employee (individual) [SYRIA].

229. MUSATTIT, Sabir Khayr, Syria; DOB 20 Feb 1977; nationality Syria; Scientific Studies and Research Center Employee (individual) [SYRIA].

230. LABABIDI, Sa'dallah 'Atif, Syria; DOB 22 Sep 1961; nationality Syria; Scientific Studies and Research Center Employee (individual) [SYRIA].

231. AL-AKHRAS, Safwan, Syria; DOB 27 Jan 1950; nationality Syria; Scientific Studies and Research Center Employee (individual) [SYRIA].

232. SINDID, Sa'id, Syria; DOB 27 Nov 1952; nationality Syria; Scientific Studies and Research Center Employee (individual) [SYRIA].

233. SA'ID, Sa'id, Syria; DOB 11 Dec 1955; nationality Syria; Scientific Studies and Research Center Employee (individual) [SYRIA].

234. FARMAND, Sa'id, Syria; DOB 10 Oct 1966; nationality Syria; Scientific Studies and Research Center Employee (individual) [SYRIA].

235. AL-'ALI, Salih, Syria; DOB 05 Jul 1965; nationality Syria; Scientific Studies and Research Center Employee (individual) [SYRIA].

236. DUMIT, Salim, Syria; DOB 11 Jul 1967; nationality Syria; Scientific Studies and Research Center Employee (individual) [SYRIA].

237. AL-JABI, Salma, Syria; DOB 02 Apr 1962; nationality Syria; Scientific Studies and Research Center Employee (individual) [SYRIA].

238. MUKHAYBIR, Salma, Syria; DOB 21 Jul 1973; nationality Syria; Scientific Studies and Research Center Employee (individual) [SYRIA].

239. JAWISH, Samar Shakir, Syria; DOB 01 May 1967; nationality Syria; Scientific Studies and Research Center Employee (individual) [SYRIA].

240. ANIS, Samih, Syria; DOB 19 Jul 1957; nationality Syria; Scientific Studies and Research Center Employee (individual) [SYRIA].

241. AL-SHA'IR, Samir, Syria; DOB 12 Sep 1978; nationality Syria; Scientific Studies and Research Center Employee (individual) [SYRIA].

242. 'ALI, Samir, Syria; DOB 12 May 1968; nationality Syria; Scientific Studies and Research Center Employee (individual) [SYRIA].

243. AL-YUSUF, Samir al-Ahmad, Syria; DOB 02 May 1975; nationality Syria; Scientific Studies and Research Center Employee (individual) [SYRIA].

244. BABA, Samiya, Syria; DOB 26 Feb 1960; nationality Syria; Scientific Studies and Research Center Employee (individual) [SYRIA].

245. 'ABDALLAH, Sayyar, Syria; DOB 15 May 1973; nationality Syria; Scientific Studies and Research Center Employee (individual) [SYRIA].

246. SALMAN, Shadi, Syria; DOB 26 Oct 1982; nationality Syria; Scientific Studies and Research Center Employee (individual) [SYRIA].

247. SAQR, Sinan, Syria; DOB 15 Apr 1964; nationality Syria; Scientific Studies and Research Center Employee (individual) [SYRIA].

248. MUHANNA, Siwumar, Syria; DOB 03 Dec 1984; nationality Syria; Scientific Studies and Research Center Employee (individual) [SYRIA].

249. AL-HUSAYN, Suhayr, Syria; DOB 17 Feb 1983; nationality Syria; Scientific Studies and Research Center Employee (individual) [SYRIA].

250. AL-JANAN, Sulsubayla, Syria; DOB 04 Jan 1964; nationality Syria; Scientific Studies and Research Center Employee (individual) [SYRIA].

251. LAYLA, Susan, Syria; DOB 12 Jul 1985; nationality Syria; Scientific Studies and Research Center Employee (individual) [SYRIA].

252. AL-DARWISH, Tamam, Syria; DOB 23 Jul 1969; nationality Syria; Scientific Studies and Research Center Employee (individual) [SYRIA].

253. SULAYMAN, Taysir, Syria; DOB 22 Aug 1968; nationality Syria; Scientific Studies and Research Center Employee (individual) [SYRIA].

254. DAYYUB, Tha'ir, Syria; DOB 01 Dec 1971; nationality Syria; Scientific Studies and Research Center Employee (individual) [SYRIA].

255. HIJAZI, Umar, Syria; DOB 01 Jun 1962; nationality Syria; Scientific Studies and Research Center Employee (individual) [SYRIA].

256. MALA'IKAH, Usamah Ramadan, Syria; DOB 27 Aug 1984; nationality Syria; Scientific Studies and Research Center Employee (individual) [SYRIA].

257. NAJJAR, Wafa', Syria; DOB 01 May 1953; nationality Syria; Scientific Studies and Research Center Employee (individual) [SYRIA].

258. HUSAYN, Wahid, Syria; DOB 01 Apr 1966; nationality Syria; Scientific Studies and Research Center Employee (individual) [SYRIA].

259. AL-SA'ID, Wasim, Syria; DOB 02 Jan 1980; nationality Syria; Scientific Studies and Research Center Employee (individual) [SYRIA].

260. SALMAN, Wasim, Syria; DOB 05 May 1985; nationality Syria; Scientific Studies and Research Center Employee (individual) [SYRIA].

261. 'ABD-AL-JALIL, Yahya, Syria; DOB 26 Sep 1960; nationality Syria; Scientific Studies and Research Center Employee (individual) [SYRIA].

262. AL-ATASI, Yumna Marwan al-Sayyid Sulayman, Syria; DOB 07 Jan 1967; nationality Syria; Scientific Studies and Research Center Employee (individual) [SYRIA].

263. SA'UD, Yunus, Syria; DOB 01 Apr 1958; nationality Syria; Scientific Studies and Research Center Employee (individual) [SYRIA].

264. AL-HATUM, Yusuf, Syria; DOB 05 Jan 1966; nationality Syria; Scientific Studies and Research Center Employee (individual) [SYRIA].

265. MA'TUQ, Yusuf, Syria; DOB 30 May 1981; nationality Syria; Scientific Studies and Research Center Employee (individual) [SYRIA].

266. AL-'ASALI, Zakariya, Syria; DOB 03 Jun 1961; nationality Syria; Scientific Studies and Research Center Employee (individual) [SYRIA].

267. AL-'ALI, Zakariya, Syria; DOB 05 May 1970; nationality Syria; Scientific Studies and Research Center Employee (individual) [SYRIA].

268. AL-ISMA'IL, Zakariya 'Ali, Syria; DOB 14 Aug 1965; nationality Syria; Scientific Studies and Research Center Employee (individual) [SYRIA].

269. 'AQQAD, Ziyad, Syria; DOB 02 Aug 1950; nationality Syria; Scientific Studies and Research Center Employee (individual) [SYRIA].

270. LULAH, Ziyad Ramadan, Syria; DOB 01 Jan 1965; nationality Syria; Scientific Studies and Research Center Employee (individual) [SYRIA].

271. RABAH, Zuhayr, Syria; DOB 07 Jan 1956; nationality Syria; Scientific Studies and Research Center Employee (individual) [SYRIA].

Dated: April 24, 2017.
Andrea M. Gacki,
Acting Director, Office of Foreign Assets Control.

BILLING CODE 4810-AL

[FR Doc. 2017-08549 Filed 4-27-17; 8:45 am]

BILLING CODE 4810-AL-P